ENVIRONMENTAL PROTECTION AGENCY

40 CFR Part 60

[EPA-HQ-OAR-2003-0156; FRL-8246-7]

RIN 2060-AN95

Standards of Performance for New Stationary Sources and Emission Guidelines for Existing Sources: Other Solid Waste Incineration Units

AGENCY: Environmental Protection Agency (EPA).

ACTION: Proposed rule; technical correction.

SUMMARY: EPA is proposing to make a technical correction to the emission guidelines and new source performance standards (NSPS) for other solid waste incineration (OSWI) units. We are correcting the averaging time for measuring opacity.

DATES: Comments. Comments must be received on or before December 26, 2006.

Public Hearing. If anyone contacts EPA by December 14, 2006 requesting to speak at a public hearing, EPA will hold a public hearing on or about December 26, 2006. If you are interested in attending the public hearing, contact Ms. Dorothy Apple at (919) 541-4487 to verify that a hearing will be held.

ADDRESSES: Submit your comments, identified by Docket ID No. EPA-HQ-OAR-2003-0156, by one of the following methods: http://www.regulations.gov. Follow the on-line instructions for submitting comments.

E-mail: Send your comments via electronic mail to a-and-r-docket@epa.gov, Attention Docket ID No. EPA-HQ-OAR-2003-0156.

Mail: Send your comments to: EPA Docket Center (EPA/DC), Environmental Protection Agency, Mailcode 6102T, 1200 Pennsylvania Ave., NW., Washington, DC 20460, Attention Docket ID No. EPA-HQ-OAR-2003-0156.

Hand Delivery: Deliver your comments to: EPA Docket Center (EPA/DC), EPA West Building, Room B108, 1301 Constitution Ave., NW., Washington, DC 20460, Attention Docket ID No. EPA-HQ-OAR-2003-0156. Such deliveries are accepted only during the normal hours of operation (8:30 a.m. to 4:30 p.m., Monday through Friday, excluding legal holidays), and special arrangements should be made for deliveries of boxed information.

Instructions: Direct your comments to Docket ID No. EPA-HQ-OAR-2003-0156. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulation.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically at http://www.regulations.gov or in hard copy at the EPA Docket Center (EPA/DC), EPA West Building, Room B102, 1301 Constitution Ave., NW, Washington, DC. The Public Reading Room is open from 8:30 a.m. to 4:30 p.m., Monday through Friday, excluding legal holidays. The telephone number for the Public Reading Room is (202) 566-1744, and the telephone number for the EPA Docket Center is (202) 566-1742.

FOR FURTHER INFORMATION CONTACT: Ms. Martha Smith, Natural Resources and Commerce Group, Sector Policies and Programs Division (E143-03), Environmental Protection Agency, Research Triangle Park, North Carolina 27711; telephone number: (919) 541-2421; e-mail: smith.martha@epa.gov.

SUPPLEMENTARY INFORMATION: In the Rules and Regulations section of this Federal Register, EPA is making this technical correction in a direct final rule, without prior proposal, because EPA views this correction as non-controversial and does not anticipate adverse comments. EPA has explained its reasons for this technical correction in the preamble to the direct final rule. If EPA receives no significant adverse comments, we will take no further action. If an adverse comment applies to this technical correction, EPA will publish a timely withdrawal of the direct final rule in the Federal Register.

I. General Information

A. Does the proposed technical correction apply to me?

Regulated Entities. Categories and entities potentially regulated by the proposed rule are very small municipal waste combustion (VSMWC) units and institutional waste incineration (IWI) units. The final OSWI emission guidelines and NSPS potentially affect the following categories of sources:

Category | NAICS code | Examples of potentially regulated entities
Any State, local, or Tribal government using a VSMWC unit as defined in the regulations | 562213, 92411 | Solid waste combustion units burning municipal waste collected from the general public and from residential, commercial, institutional and industrial sources.
Institutions using an IWI unit as defined in the regulations | 922, 6111, 623, 7121 | Correctional institutions, primary and secondary schools, camps and national parks.
Any Federal government agency using an OSWI unit as defined in the regulations | 928 | Department of Defense (labs, military bases, munition facilities).
Any college or university using an OSWI unit as defined in the regulations | 6113, 6112 | Universities, colleges and community colleges.
Any church or convent using an OSWI unit as defined in the regulations | 8131 | Churches and convents.
Any civic or religious organization using an OSWI unit as defined in the regulations | 8134 | Civic associations and fraternal associations.

This table is not intended to be exhaustive, but rather provides a guide for readers regarding entities likely to be regulated by the proposed rule. To determine whether your facility is regulated by the proposed rule, you should examine the applicability criteria in 40 CFR 60.2885 through 60.2888 of subpart EEEE, and in the emission guidelines for existing sources located at 40 CFR 60.2991 through 60.2994 of subpart FFFF. If you have any questions regarding the applicability of the proposed rule to a particular entity, contact the person listed in the FOR FURTHER INFORMATION CONTACT section.

What Are the Administrative Requirements for This Action?

For a complete discussion of all the administrative requirements applicable to this action, see the direct final rule in the Rules and Regulations section of this Federal Register.

The Regulatory Flexibility Act (RFA) generally requires an agency to prepare a regulatory flexibility analysis of any rule subject to notice and comment rulemaking requirements under the Administrative Procedures Act or any other stature unless the agency certifies that the rule will not have a significant impact on a substantial number of small entities. Small entities include small businesses, small government organizations, and small government jurisdictions.

For purposes of assessing the impacts of today's proposed rule on small entities, small entity is defined as follows:

(1) A small business in the regulated industry that has a gross annual revenue less than $6 million (this varies by industry category, ranging up to $10.5 million for North American Industrial Classification System (NAICS) code 562213 (VSMWC)), based on Small Business Administration's size standards;

(2) A small governmental jurisdiction that is a government of a city, county, town, school district or special district with a population of less than 50,000; or

(3) A small organization that is any not-for-profit enterprise that is independently owned and operated and is not dominant in its field.

After considering the economic impact of today's proposed rule on small entities, I certify that this action will not have a significant economic impact on a substantial number of small entities. This action does not propose any changes to the final OSWI rule, in which we determined that the final rule would not have a significant economic impact on a substantial number of small entities.

For additional information, see the direct final rule published in the Rules and Regulations section of this Federal Register.

List of Subjects in 40 CFR Part 60

Environmental protection, Administrative practice and procedure, Air pollution control, Intergovernmental relations, Reporting and recordkeeping requirements.

Dated: November 17, 2006.
Stephen L. Johnson,
Administrator.

[FR Doc. E6-19862 Filed 11-22-06; 8:45 am]

BILLING CODE 6560-50-P